ENVIRONMENTAL PROTECTION AGENCY

[FRL-7426-9]

Agency Information Collection Activities: Submission for OMB Review; Comment Request; Emergency Planning and Release Notification Requirements Under Emergency Planning and Community Right-to-Know Act Sections 302, 303, and 304

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Emergency Planning and Release Notification Requirements under Emergency Planning and Community Right-to-Know Act Sections 302, 303, and 304, OMB Control Number 2050-0092, expiring January 31, 2003. The ICR describes the nature of the information collection and its expected burden and cost; where appropriate, it includes the actual data collection instrument.

DATES: Comments must be submitted on or before January 23, 2003.

ADDRESSES: Send comments, referencing EPA ICR No. 1395.05 and OMB Control No. 2050-0092, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-Mail at auby.susan@epa.gov or download off the Internet at http://www.epa.gov/icr and refer to EPA ICR No. 1395.05. For technical questions about the ICR, contact Sicy Jacob at EPA by phone at (202) 564-8019, by e-mail at jacob.sicy@epa.gov.

SUPPLEMENTARY INFORMATION: Title: Emergency Planning and Release Notification Requirements under Emergency Planning and Community Right-to-Know Act Sections 302, 303, and 304, OMB Control Number 2050-0092, EPA ICR Number 1395.05, expiring January 31, 2003. This is a request for extension of a currently approved collection.

Abstract: EPCRA established broad emergency planning and facility reporting requirements. Section 302 (40 CFR 355.30) requires facilities where an extremely hazardous substances (EHS) is present in an amount at or in excess of the threshold planning quantity (TPQ) to notify the State Emergency Response Commission (SERC) by May 17, 1987. This activity has been completed; the section 302 costs and burden hours for this ICR, therefore, reflect only the estimate of cost and burden incurred by newly regulated facilities during years 2000 to 2002. Section 303 (40 CFR 355.300 requires local emergency planning committees (LEPCs) to prepare local emergency plans. Facilities subject to section 302 are required to provide information for the development and implementation of these local emergency plans. Section 304 (40 CFR 355.40) requires facilities to report to SERCs and LEPCs releases of EHSs and hazardous substances in excess of reportable quantities established by EPA. In addition, these facilities must provide written follow-up information on the release, its impacts, and any actions taken in response to the release. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on August 12, 2002 (67 FR 52481); no comments were received.

Burden Statement: The annual public reporting and recordkeeping burden for this collection of information is estimated to average for emergency planning under 40 CFR 355.30 is 16.15 hours for new and newly regulated facilities and 1.50 hours for existing facilities. For a limited number of existing facilities, there may be a burden to inform the LEPC of any changes at a facility that may affect emergency planning (1.50 hours). The average reporting burden for facilities reporting releases under 40 CFR 355.40 is estimated to average approximately 5 hours per release, including the time for determining if the release is a reportable quantity, notifying the LEPC and SERC, or the 911 operator, and developing and submitting a written follow-up notice. There are no recordkeeping requirements for facilities under EPCRA sections 302-304.

The average burden for emergency planning activities under 40 CFR 300.215 is 21 hours per plan for LEPCs, 16 hours per plan for SERCs. Each SERC and LEPC is also estimated to incur an annual recordkeeping burden of 10 hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Facilities where extremely hazardous substances are present, LEPCs and SERCs.

Estimated Number of Respondents: 82,260.

Frequency of Response: Section 302 respondents will comply with requirements once unless new information becomes available. Section 303 respondents will comply with requirements as requested by LEPCs; LEPCs may have to update their local emergency response plans as new facilities or other information such as new chemicals present at or above a TPQ. Section 304 respondents will comply when there is a release of an EHS above the RQ.

Estimated Total Annual Hour Burden: 212,460 hours.

Estimated Total Annualized Capital, O&M Cost Burden: $15,160.

Send comments on the Agency's need for this information, the accuracy of the provided burden estimates, and any suggested methods for minimizing respondent burden, including through the use of automated collection techniques to the addresses listed above. Please refer to EPA ICR No. 1395.05 and OMB Control No. 2050-0092 in any correspondence.

Dated: December 10, 2002.
Oscar Morales,
Director, Collection Strategies Division.

[FR Doc. 02-32396 Filed 12-23-02; 8:45 am]

BILLING CODE 6560-50-P